DEPARTMENT OF AGRICULTURE

Food and Nutrition Service

Agency Information Collection Activities: Proposed Collection; Comment Request—Information Collection for the Child and Adult Care Food Program

AGENCY: Food and Nutrition Service, USDA.

ACTION: Notice.

SUMMARY: In accordance with the Paperwork Reduction Act of 1995, this notice invites the general public and other public agencies to comment on the Agency's proposed information collection for the Child and Adult Care Food Program. This collection is a revision of a currently approved information collection.

DATES: Written comments must be received on or before July 18, 2016.

ADDRESSES: Comments are invited on: (1) Whether the proposed collection of information is necessary for the proper performance of the Agency's functions, including whether the information will have practical utility; (2) the accuracy of the Agency's estimate of the proposed information collection burden, including the validity of the methodology and assumptions used; (3) ways to enhance the quality, utility and clarity of the information to be collected; and (4) ways to minimize the burden of the collection of information on those who are to respond, including use of appropriate automated, electronic, mechanical, or other technological collection techniques or other forms of information technology.

Comments may be sent to Andrea Farmer, Policy and Program Development Division, Child Nutrition Programs, 3101 Park Center Drive, Alexandria, VA 22302. Comments will also be accepted through the Federal eRulemaking Portal. Go to http://www.regulations.gov, and follow the online instructions for submitting comments electronically.

All responses to this notice will be summarized and included in the request for Office of Management and Budget (OMB) approval. All comments will also become a matter of public record.

FOR FURTHER INFORMATION CONTACT: Requests for additional information or copies of this information collection should be directed to Andrea Farmer, Policy and Program Development Division, Child Nutrition Programs, 3101 Park Center Drive, Alexandria, VA 22302.

SUPPLEMENTARY INFORMATION:

Title: 7 CFR part 226, Child and Adult Care Food Program.

OMB Number: 0584-0055.

Expiration Date: September 30, 2016.

Type of Request: Revision of a currently approved collection.

Abstract: Section 17 of the Richard B. Russell National School Lunch Act (NSLA), as amended, (42 U.S.C. 1766), authorizes the CACFP to provide cash reimbursement and commodity assistance, on a per meal basis, for food service to children in nonresidential child care centers and family day care homes, and to eligible adults in nonresidential adult day care centers. The U.S. Department of Agriculture, through the Food and Nutrition Service, has established application, monitoring, and reporting requirements to manage the CACFP effectively. The purpose of this submission to OMB is to obtain approval to continue the discussed information collection. States and service institutions participating in the CACFP will submit to FNS account and record information reflecting their efforts to comply with statutory and regulatory Program requirements. Examples of data collected and reported with this collection include, but are not limited to: applications and supporting documents; records of enrollment; records supporting the free and reduced price eligibility determinations; daily records indicating numbers of program participants in attendance and the number of meals served by type and category; and receipts, invoices and other records of CACFP costs and documentation of non-profit operation of food service.

This is a revision of a currently approved collection. It revises reporting burden as a result of increases in the number of sponsoring organizations and facilities, and an increase in the number of enrolled participants, who are required to submit information. It also adds a new requirement for written documentation when requesting substitutions for fluid milk or food components for participants with special non-disability, dietary needs. This requirement is added by the regulation Child and Adult Care Food Program: Meal Pattern Revisions Related to the Healthy, Hunger-Free Kids Act of 2010, published April 25, 2016 to 7 CFR 226.20 (g) Exceptions and variations in reimbursable meals.

This revision removes two reporting requirements that had been duplicated in the current burden estimate (i.e. counted twice), and one typed error in the number of day care home sponsors, which reduce the burden. Current OMB inventory for this collection consists of 2,234,840 hours. As a result of program changes and adjustments, program burden was increased slightly by 236,715 hours since last renewal. The average burden per response and the annual burden hours for reporting and recordkeeping are explained below and summarized in the charts which follow.

Affected Public: 56 State agencies, 21,052 Institutions, 180,740 facilities (includes 113,847, family day care homes and 66,893 sponsored center facilities) and 4,055,172 households.

Estimated Number of Respondents: 4,257,020.

Estimated Number of Responses per Respondent: 1.824365.

Estimated Total Annual Responses: 7,766,360.

Estimate Time per Response: 0.318238 hrs.

Estimated Total Annual Burden: 2,471,555 hrs.

Current OMB Inventory for Part 226: 2,234,840 hrs.

Difference (change in burden with this renewal): 236,715 hrs.

Refer to the table below for estimated total annual burden.

Affected public | Estimated number of respondents | Number of responses per respondent | Total annual responses | Estimated total hours per response | Estimated total burden
Reporting
State Agencies | 56 | 564.16 | 31,593 | 0.176 | 5,544.92
Sponsor/Institution | 21,052 | 26.31 | 553,808 | 1.1136 | 616,697.18
Facility | 180,740 | 12.00 | 2,168,880 | 0.407 | 883,761.00
Individual/Household | 4,055,172 | 1.05 | 4,274,151 | 0.0830 | 354,827.55
Total Estimated Reporting Burden | 4,257,020 |  | 7,028,432 |  | 1,860,830.66
Recordkeeping
State Agencies | 56 | 27.00 | 1,512 | 1.3704 | 2,072
Sponsor/Institution | 21,052 | 9.22 | 194,196 | 0.3421 | 66,432
Facility | 180,740 | 3.00 | 542,220 | 1.000 | 542,220
Total Estimated Recordkeeping Burden | 201,848 |  | 737,928 |  | 610,724
Total of Reporting and Recordkeeping CACFP
Reporting | 4,257,020 | 1.6510 | 7,028,432 | 0.2647 | 1,860,831
Recordkeeping | 201,848 | 3.6559 | 737,928 | 0.8276 | 610,724
Total | 4,257,020 |  | 7,766,360 |  | 2,471,555

Dated: May 9, 2016.
Audrey Rowe,
Administrator, Food and Nutrition Service.

[FR Doc. 2016-11559 Filed 5-16-16; 8:45 am]

BILLING CODE 3410-30-P